ENVIRONMENTAL PROTECTION AGENCY

40 CFR Part 98

[EPA-HQ-OAR-2025-0186; FRL-12720-01-OAR]

RIN 2060-AW76

Reconsideration of the Greenhouse Gas Reporting Program

Correction

In proposed rule document 2025-17923 beginning on page 44591 in the issue of Wednesday, September 16, 2025, make the following correction:

On page 44592, in the second column, in the ninth line from the bottom, “October 1, 2025” should read “September 22, 2025”.

[FR Doc. C1-2025-17923 Filed 9-19-25; 8:45 am]

BILLING CODE 0099-10-D